DEPARTMENT OF HEALTH AND HUMAN SERVICES

Centers for Disease Control and Prevention

[30Day-04-0012]

Proposed Data Collections Submitted for Public Comment and Recommendations

The Centers for Disease Control and Prevention (CDC) publishes a list of information collection requests under review by the Office of Management and Budget (OMB) in compliance with the Paperwork Reduction Act (44 U.S.C. Chapter 35). To request a copy of these requests, call the CDC Reports Clearance Officer at (404) 498-1210 or send an e-mail to omb@cdc.gov. Send written comments to CDC Desk Officer, Human Resources and Housing Branch, New Executive Office Building, Room 10235, Washington, DC 20503 or by fax to (202) 395-6974. Written comments should be received within 30 days of this notice.

Proposed Project

National Nosocomial Infections Surveillance (NNIS) System—Reinstatement with change—National Center for Infectious Disease (NCID), Centers for Disease Control and Prevention (CDC).

The NNIS system, which was instituted in 1970, is an ongoing surveillance system currently involving 345 hospitals that voluntarily report nosocomial infections data to CDC, who aggregate the data into a national database. The data are collected using surveillance protocols developed by CDC for high risk patient groups (ICU, high-risk nursery, and surgical patients). Instructional manuals, training of surveillance personnel and computer surveillance software are among the support that CDC provides without cost to participating hospitals to ensure the reporting of accurate and uniform data.

In the very near future this data collection will be merged with two other collections to form the National Healthcare Safety Network (NHSN). This network will be a computer-based system. Since this system will be phased in over time, CDC will need to continue using the forms within this clearance request until the transformation has been completed.

The purpose of the NNIS system is to provide national data on the incidence of nosocomial infections and their risk factors, and on emerging antibiotic resistance. The data are used to determine: (1) The magnitude of various nosocomial infection problems; (2) trends in infection rates among patients with similar risks; and (3) changes in the epidemiology of nosocomial infections resulting from new medical therapies and changing patient risks.

New to the NNIS system is the monitoring of antibiotic resistance and antimicrobial use in groups of patients. Data from the monitoring of antibiotic resistance and antimicrobial use in the NNIS system will be used to describe the epidemiology of antibiotic resistance and understand the role of antimicrobial therapy to the growing problem of antibiotic resistance. The NNIS system can also serve as a sentinel system for the detection of nosocomial infection outbreaks in the event of national distribution of a contaminated medical product or device.

The respondent burden is not the same in each hospital since the hospitals can select from a wide variety of surveillance options. A typical hospital will monitor patients for infections in two ICUs and surgical site infections following three surgical operations. The respondent burden includes the time and cost to: (1) Collect data on nosocomial infections in patients in these groups and the denominator data to characterize risk factors in the patients who are being monitored; (2) to enter the data as well as a surveillance plan into the surveillance software; (3) send the data to CDC by electronic transmission; and (4) complete a short annual survey and administrative forms. The total annualized burden is 66,775 hours.

Form title | Number of respondents | Number of responses/ respondent | Average burden per response (in hrs.)
Hospital Personnel List | 297 | 1 | 15/60
Annual Participating Institution Survey | 297 | 1 | 45/60
NNIS Infection Worksheet:
Hospitals with High Risk Nursery | 100 | 240 (20×12) | 25/60
Hospitals without High Risk Nursery | 197 | 180 (15×12) | 25/60
Adult & Pediatric ICU Monthly Report | 235 | 12 | 6
High Risk Nursery Surveillance Monthly Report | 100 | 12 | 4
Surgical Patient Surveillance-Operative Procedure Daily Report | 205 | 12 | 2
Monthly Surveillance Plan | 277 | 12 | 25/60
Supplementary Data Collection, Cesarean Patient Report | 29 | 240 | 27/60
Supplementary Data Collection, Craniotomy Patient Report | 9 | 58 | 27/60
Supplementary Data Collection, Spinal Fusion Patient Report | 18 | 60 | 27/60
Supplementary Data Collection, Ventricular Shunt Patient | 10 | 180 | 27/60
AUR Surveillance Monthly Report:
ICP | 30 | 12 (1×12) | 2
Laboratory Technician | 30 | 60 (5×12) | 3
Pharmacy Technician | 30 | 48 (4×12) | 2
AUR Surveillance Contact Information | 40 | 1 | 10/60
Antimicrobial Prescribing Practices | 30 | 1 | 15/60

Dated: November 3, 2004.
B. Kathy Skipper,
Acting Director, Management Analysis and Services Office, Centers for Disease Control and Prevention.

[FR Doc. 04-24892 Filed 11-8-04; 8:45 am]

BILLING CODE 4163-18-P